DEPARTMENT OF ENERGY

Federal Energy Regulatory Commission

[Project No. 7153-018]

Consolidated Hydro New York, LLC; Notice of Application Ready for Environmental Analysis and Soliciting Comments, Recommendations, Terms and Conditions, and Prescriptions

Take notice that the following hydroelectric application has been filed with the Commission and is available for public inspection.

a. Type of Application: New Major License.

b. Project No.: 7153-018.

c. Date filed: April 29, 2022.

d. Applicant: Consolidated Hydro New York, LLC.

e. Name of Project: Victory Mills Hydroelectric Project (Victory Mills Project or project).

f. Location: On Fish Creek in Saratoga County in the Village of Victory, New York.

g. Filed Pursuant to: Federal Power Act, 16 U.S.C. 791(a)-825(r).

h. Applicant Contact: Curtis Mooney, Manager, Regulatory Affairs, Patriot Hydro, LLC, 59 Ayers Island Road, Bristol, NH 03222, (603) 744-0846, or, Kevin Webb, Hydro Licensing Manager, Patriot Hydro, LLC, 670 N Commercial Street, Suite 204, Manchester, NH 03101, (603) 623-8222.

i. FERC Contact: Silvia Pineda-Munoz, silvia.pineda-munoz@ferc.gov, (202) 502-8388.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U. S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Victory Mills Hydroelectric Project (P-7153-018).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

l. The Victory Mills Project consists of: (1) a dam that includes: (a) an approximately 150-foot-long concrete spillway varying in height from 4 to 6 feet with a crest elevation of 187.5 feet National Geodetic Vertical Datum of 1929 (NGVD29), and (b) a sluice gate section approximately 19 feet high and 40 feet long with four gated spillway bays, each with a sill elevation of 181 feet NGVD29 and containing a 7-foot-high by 8-foot-wide wooden timber gate; (2) a 4.3-acre reservoir with a gross storage capacity of approximately 18 acre-feet at the normal surface elevation of 187.5 feet NGVD29; (3) an intake channel feeding a 51-foot-long, 25-foot-high concrete intake structure; (4) an 8-foot-diameter, 300-foot-long steel penstock; (5) a 27-foot by 46-foot concrete powerhouse containing a single turbine-generator unit with an installed capacity of 1,656 kilowatts; (6) an approximately 30-foot-wide by 530-foot-long tailrace channel; (7) a 90-foot-long generator lead extending through the powerhouse to a transformer and then a 100-foot-long underground and a 20-foot-long aerial, 4.16-kilovolt transmission line to the point of interconnection; and (8) appurtenant facilities. There are no recreation facilities at the project. An average of 6,073 MWh is generated at the project annually.

The Victory Mills Project operates as a run-of-river facility with no storage or flood control capacity. A continuous minimum bypassed reach flow of 36 cubic feet per second (cfs), or inflow, whichever is less, is maintained through operation of a sluice gate at the dam. The minimum hydraulic capacity for operating the turbine unit is 60 cfs, therefore, the minimum river flow needed for project operation is 96 cfs (36 cfs plus 60 cfs). When inflow at the project is less than 96 cfs, river flows are allowed to pass downstream through the bypassed reach. When the inflow exceeds the maximum hydraulic capacity of the project at 590 cfs, the impoundment level is permitted to rise over the spillway.

m. This filing may be viewed on the Commission's website at http://www.ferc.gov using the “eLibrary” link. Enter the docket number excluding the last three digits in the docket number field, to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

You may also register online at http://www.ferc.gov/docs-filing/esubscription.asp to be notified via email of new filings and issuances related to this or other pending projects. For assistance, contact FERC Online Support.

n. A license applicant must file no later than 60 days from the issuance date of this notice: (1) a copy of the water quality certification; (2) a copy of the request for certification, including proof of the date on which the certifying agency received the request; or (3) evidence of a waiver of water quality certification.

o. Procedural schedule: The application will be processed according to the following schedule. Revisions to the schedule will be made as appropriate.

Milestones | Target date
Deadline for filing comments, recommendations, terms and conditions, and prescriptions | August 27, 2024.
Deadline for filing reply comments | October 11, 2024.

p. Final amendments to the application must be filed with the Commission no later than 30 days from the issuance date of this notice.

Dated: June 28, 2024.
Debbie-Anne A. Reese,
Acting Secretary.

[FR Doc. 2024-14777 Filed 7-5-24; 8:45 am]

BILLING CODE 6717-01-P